DEPARTMENT OF HEALTH AND HUMAN SERVICES

Indian Health Service

Request for Public Comment: 60 Day Information Collection: Indian Health Service Medical Staff Credentials and Privileges Files

AGENCY: Indian Health Service, HHS.

ACTION: Notice and request for comments. Request for extension of approval.

SUMMARY: In compliance with the Paperwork Reduction Act of 1995, the Indian Health Service (IHS) invites the general public to comment on the information collection titled, “Indian Health Service Medical Staff Credentials and Privileges Files,” OMB Control Number 0917-0009, which expires August 31, 2016.

DATES: Comment Due Date: June 20, 2016. Your comments regarding this information collection are best assured of having full effect if received within 60 days of the date of this publication.

ADDRESSES: Send your written comments, requests for more information on the collection, or requests to obtain a copy of the data collection instrument and instructions to Cheryl Peterson by one of the following methods:

• Mail: Cheryl Peterson, Acting Director, Improving Patient Care Program, Office of Clinical and Preventive Services, Indian Health Service, 5600 Fishers Lane, Mail Stop: 08N34-A, Rockville, MD 20857.

• Phone: 301-443-1043.

• Email: Cheryl.Peterson@ihs.gov.

• Fax: 301-443-9971.

SUPPLEMENTARY INFORMATION: This notice announces our intent to submit the collection to OMB for approval of an extension, and to solicit comments on specific aspects of the information collection. The purpose of this notice is to allow 60 days for public comment to be submitted to IHS. A copy of the supporting statement is available at www.regulations.gov (see Docket ID IHS-2016-0004).

Information Collection Title: “Indian Health Service Medical Staff Credentials and Privileges Files, 0917-0009.” Type of Information Collection Request: Extension of an approved information collection, “Indian Health Service Medical Staff Credentials and Privileges Files, 0917-0009.” Form Numbers: 0917-0009. Need and Use of Information Collection: This collection of information is used to evaluate individual health care providers applying for medical staff privileges at IHS health care facilities. The IHS operates health care facilities that provide health care services to American Indians and Alaska Natives. To provide these services, the IHS employs (directly and under contract) several categories of health care providers including: Physicians (M.D. and D.O.), dentists, psychologists, optometrists, podiatrists, audiologists, physician assistants, certified registered nurse anesthetists, nurse practitioners, and certified nurse midwives. IHS policy specifically requires physicians and dentists to be members of the health care facility medical staff where they practice. Health care providers become medical staff members, depending on the local health care facility's capabilities and medical staff bylaws. There are three types of IHS medical staff applicants: (1) Health care providers applying for direct employment with IHS; (2) contractors who will not seek to become IHS employees; and (3) employed IHS health care providers who seek to transfer between IHS health care facilities.

National health care standards developed by the Centers for Medicare and Medicaid Services, the Joint Commission, and other accrediting organizations require health care facilities to review, evaluate and verify the credentials, training and experience of medical staff applicants prior to granting medical staff privileges. In order to meet these standards, IHS health care facilities require all medical staff applicants to provide information concerning their education, training, licensure, and work experience and any adverse disciplinary actions taken against them. This information is then verified with references supplied by the applicant and may include: former employers, educational institutions, licensure and certification boards, the American Medical Association, the Federation of State Medical Boards, the National Practitioner Data Bank, and the applicants themselves.

In addition to the initial granting of medical staff membership and clinical privileges, Joint Commission standards require that a review of the medical staff be conducted not less than every two years. This review evaluates the current competence of the medical staff and verifies whether they are maintaining the licensure or certification requirements of their specialty.

The medical staff credentials and privileges records are maintained at the health care facility where the health care provider is a medical staff member. The establishment of these records at IHS health care facilities is a Joint Commission requirement. Prior to the establishment of this Joint Commission requirement, the degree to which medical staff applications were maintained at all health care facilities in the United States that are verified for completeness and accuracy varied greatly across the Nation.

The application process has been streamlined and is using information technology to make the application electronically available on the Internet. The application may be found at the IHS.gov Web site address: https://www.ihs.gov/IHM/index.cfm?module=dsp_ihm_pc_p3c1.

Affected Public: Individuals and households. Type of Respondents: Individuals.

The table below provides: Types of data collection instruments, Estimated number of respondents, Number of annual number of responses, Average burden per response, and Total annual burden hours.

Data collection instrument(s) | Estimated number of respondents | Responses per respondent | Average burden hour per response * | Total annual burden hours
Application to Medical Staff | 570 | 1 | 1.00 (60 mins) | 570
Reference Letter | 1710 | 1 | 0.33 (20 mins) | 570
Reappointment Request | 190 | 1 | 1.00 (60 mins) | 190
Obstetrics-Gynecology Privileges | 20 | 1 | 1.00 (60 mins) | 20
Internal Medicine | 325 | 1 | 1.00 (60 mins) | 325
Surgery Privileges | 20 | 1 | 1.00 (60 mins) | 20
Psychiatry Privileges | 13 | 1 | 1.00 (60 mins) | 13
Anesthesia Privileges | 15 | 1 | 1.00 (60 mins) | 15
Dental Privileges | 150 | 1 | 0.33 (20 mins) | 50
Psychology Privileges | 30 | 1 | 0.17 (10 mins) | 5
Audiology Privileges | 7 | 1 | 0.08 (5 mins) | 1
Podiatry Privileges | 7 | 1 | 0.08 (5 mins) | 1
Radiology Privileges | 8 | 1 | 0.33 (20 mins) | 3
Pathology Privileges | 3 | 1 | 0.33 (20 mins) | 1
Total | 3068 |  |  | 1,784
* For ease of understanding, burden hours are provided in actual minutes.

There are no capital costs, operating costs and/or maintenance costs to respondents.

Requests for Comments: Your written comments and/or suggestions are invited on one or more of the following points: (a) Whether the information collection activity is necessary to carry out an agency function; (b) whether the agency processes the information collected in a useful and timely fashion; (c) the accuracy of public burden estimate (the estimated amount of time needed for individual respondents to provide the requested information); (d) whether the methodology and assumptions used to determine the estimate is logical; (e) ways to enhance the quality, utility, and clarity of the information being collected; and (f) ways to minimize the public burden through the use of automated, electronic, mechanical, or other technological collection techniques or other forms of information technology.

Dated: April 13, 2016.
Elizabeth A. Fowler,
Deputy Director for Management Operations, Indian Health Service.

[FR Doc. 2016-09170 Filed 4-19-16; 8:45 am]

BILLING CODE 4160-16-P